DEPARTMENT OF TRANSPORTATION

Federal Aviation Administration

14 CFR Part 39

[Docket No. FAA-2010-0278; Directorate Identifier 2009-NM-255-AD; Amendment 39-16399; AD 2010-17-07]

RIN 2120-AA64

Airworthiness Directives; Airbus Model A330-223, -321, -322, and -323 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During accomplishment of Damage Tolerant—Airworthiness Limitation Item task 712106-01-01 from A330 ALS Part 2, an A330 operator found a Fluorescent Penetrant Inspection (FPI) indication in the head of the shank filet radius in one of the Pratt & Whitney (PW) forward (FWD) engine mount pylon bolts.

* * * * *

Dual-bolt fractures could lead to inability for mount assembly to sustain loads which may lead to an engine mount failure and consequently to engine separation from the aeroplane during flight, which would constitute an unsafe condition.

* * * * *

We are issuing this AD to require actions to correct the unsafe condition on these products.

DATES: This AD becomes effective September 22, 2010.

The Director of the Federal Register approved the incorporation by reference of certain publications listed in this AD as of September 22, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on April 2, 2010 (75 FR 16696). That NPRM proposed to correct an unsafe condition for the specified products. The MCAI states:

During accomplishment of Damage Tolerant—Airworthiness Limitation Item task 712106-01-01 from A330 ALS Part 2, an A330 operator found a Fluorescent Penetrant Inspection (FPI) indication in the head of the shank filet radius in one of the Pratt & Whitney (PW) forward (FWD) engine mount pylon bolts.

Investigation has confirmed that this FPI indication was due to a quality manufacturing process issue which led to a bolt non-conformance and is also applicable to aftward (AFT) mount pylon bolts.

Dual-bolt fractures could lead to inability for mount assembly to sustain loads which may lead to an engine mount failure and consequently to engine separation from the aeroplane during flight, which would constitute an unsafe condition.

This AD requires a one time detailed visual inspection of the FWD and AFT mount pylon bolts on all A330 aeroplanes fitted with PW engines (8 bolts per engine) and replacement of any affected bolt.

You may obtain further information by examining the MCAI in the AD docket.

Comments

We gave the public the opportunity to participate in developing this AD. We considered the comments received.

Requests To Refer to the Latest Pratt & Whitney Service Information

Delta Airlines and Pratt & Whitney—Cheshire Engine Center request that we revise the NPRM to refer to Pratt & Whitney Service Bulletin PW4G-100-71-35, Revision 1, dated December 4, 2009, for determining suspect bolts, rather than Pratt & Whitney Service Bulletin PW4G-100-71-35, dated March 14, 2008, which was referenced in the NPRM as the appropriate source for determining suspect bolts. The commenters state that Pratt & Whitney Service Bulletin PW4G-100-71-35, Revision 1, dated December 4, 2009, corrected suspect bolt serial numbers, and the serial number range of suspect bolts was reduced.

We agree with the requests. Since fewer parts are listed and no parts are added in Pratt & Whitney Service Bulletin PW4G-100-71-35, Revision 1, dated December 4, 2009, we have revised paragraph (h) of this AD to refer to Pratt & Whitney Service Bulletin PW4G-100-71-35, Revision 1, dated December 4, 2009, as the appropriate source for determining suspect bolts. We have also revised paragraph (h) of this AD to provide credit to operators that used Pratt & Whitney Service Bulletin PW4G-100-71-35, dated March 14, 2008, to determine suspect bolts before the effective date of this AD.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 41 products of U.S. registry. We also estimate that it will take about 7 work-hours per product to comply with the basic requirements of this AD. The average labor rate is $85 per work-hour. Required parts will cost about $16,672 per product. Where the service information lists required parts costs that are covered under warranty, we have assumed that there will be no charge for these parts. As we do not control warranty coverage for affected parties, some parties may incur costs higher than estimated here. Based on these figures, we estimate the cost of this AD to the U.S. operators to be $707,947, or $17,267 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-17-07 Airbus: Amendment 39-16399. Docket No. FAA-2010-0278; Directorate Identifier 2009-NM-255-AD.

Effective Date

(a) This airworthiness directive (AD) becomes effective September 22, 2010.

Affected ADs

(b) None.

Applicability

(c) This AD applies to Airbus Model A330-223, -321, -322, and -323 airplanes; certificated in any category; all manufacturer serial numbers.

Subject

(d) Air Transport Association (ATA) of America Code 71: Powerplant.

Reason

(e) The mandatory continuing airworthiness information (MCAI) states:

During accomplishment of Damage Tolerant—Airworthiness Limitation Item task 712106-01-01 from A330 ALS Part 2, an A330 operator found a Fluorescent Penetrant Inspection (FPI) indication in the head of the shank filet radius in one of the Pratt & Whitney (PW) forward (FWD) engine mount pylon bolts.

Investigation has confirmed that this FPI indication was due to a quality manufacturing process issue which led to a bolt non-conformance and is also applicable to aft ward (AFT) mount pylon bolts.

Dual-bolt fractures could lead to inability for mount assembly to sustain loads which may lead to an engine mount failure and consequently to engine separation from the aeroplane during flight, which would constitute an unsafe condition.

This AD requires a one time detailed visual inspection of the FWD and AFT mount pylon bolts on all A330 aeroplanes fitted with PW engines (8 bolts per engine) and replacement of any affected bolt.

Compliance

(f) You are responsible for having the actions required by this AD performed within the compliance times specified, unless the actions have already been done.

Actions

(g) Do a detailed inspection to determine the part number, serial number, and lot number of the forward and aft mount pylon bolts on both engines, in accordance with the Accomplishment Instructions of Airbus Mandatory Service Bulletin A330-71-3020, dated June 10, 2009. Inspect at the later of the times specified in paragraphs (g)(1) and (g)(2) of this AD.

(1) Before the accumulation of 8,000 total flight cycles or 24,000 total flight hours since first flight of the airplane, whichever occurs first.

(2) Within 24 months after the effective date of this AD.

(h) If the identified part number, serial number, or lot number corresponds to suspect bolts identified in Pratt & Whitney Service Bulletin PW4G-100-71-35, Revision 1, dated December 4, 2009, before further flight remove the affected bolt and replace with a serviceable bolt, in accordance with the Accomplishment Instructions of Airbus Mandatory Service Bulletin A330-71-3020, dated June 10, 2009. Identifying part numbers, serial numbers or lot numbers before the effective date of this AD according to Pratt & Whitney Service Bulletin PW4G-100-71-35, dated March 14, 2008, is considered acceptable for compliance with the corresponding action specified in this AD.

(i) If the bolt part number, serial number, or lot number is unreadable, before further flight, remove the affected bolt and replace with a serviceable bolt, in accordance with the Accomplishment Instructions of Airbus Mandatory Service Bulletin A330-71-3020, dated June 10, 2009.

(j) As of the effective date of this AD, no person may install any forward or aft mount pylon bolt on any airplane, unless this bolt has been identified as a non-suspect bolt, in accordance with the Accomplishment Instructions of Airbus Mandatory Service Bulletin A330-71-3020, dated June 10, 2009.

(k) Although Airbus Mandatory Service Bulletin A330-71-3020, dated June 10, 2009, specifies to submit certain information to the manufacturer, this AD does not include that requirement.

FAA AD Differences

Note 1: This AD differs from the MCAI and/or service information as follows: Although the MCAI or service information tells you to submit information to the manufacturer, paragraph (k) of this AD specifies that such submittal is not required.

Other FAA AD Provisions

(l) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(m) Refer to MCAI European Aviation Safety Agency Airworthiness Directive 2009-0240, dated November 5, 2009; Airbus Mandatory Service Bulletin A330-71-3020, dated June 10, 2009; and Pratt & Whitney Service Bulletin PW4G-100-71-35, Revision 1, dated December 4, 2009; for related information.

Material Incorporated by Reference

(n) You must use Airbus Mandatory Service Bulletin A330-71-3020, excluding Appendix 1, dated June 10, 2009; and Pratt & Whitney Service Bulletin PW4G-100-71-35, Revision 1, dated December 4, 2009; as applicable; to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on August 4, 2010.
Stephen P. Boyd,
Acting Manager, Transport Airplane Directorate, Aircraft Certification Service.

[FR Doc. 2010-19839 Filed 8-17-10; 8:45 am]

BILLING CODE 4910-13-P